DEPARTMENT OF TRANSPORTATION

Federal Motor Carrier Safety Administration

[Docket No. FMCSA-2019-0191]

Agency Information Collection Activities; Renewal of a Currently-Approved Information Collection Request: Financial Responsibility for Motor Carriers of Passengers and Motor Carriers of Property

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The information collected will be used to help ensure that motor carriers of passengers and property maintain appropriate levels of financial responsibility.

DATES: We must receive your comments on or before January 27, 2020.

ADDRESSES: All comments should reference Federal Docket Management System (FDMS) Docket Number FMCSA-2019-0191. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503. In the 60-day Federal Register notice (84 FR 52164) published on October 1, 2019, FMCSA received two comments. One was from an anonymous commenter which was not relevant to the information collection. The National School Transportation Association submitted a letter supporting the Agency's proposal to renew the information collection.

FOR FURTHER INFORMATION CONTACT: Mr. Jeff Secrist, Office of Registration and Safety Information, Chief, Registration, Licensing and Insurance Division, Department of Transportation, Federal Motor Carrier Safety Administration, West Building 6th Floor, 1200 New Jersey Avenue SE, Washington, DC 20590. Telephone: 202-385-2367; email: jeff.secrist@dot.gov. Office hours are from 9 a.m. to 5 p.m., Monday through Friday, except Federal Holidays.

SUPPLEMENTARY INFORMATION:

Title: Financial Responsibility for Motor Carriers of Passengers and Motor Carriers of Property.

OMB Control Number: 2126-0008.

Type of Request: Renewal of a currently-approved information collection.

Respondents: Insurance underwriters for insurance and surety companies of motor carriers of property (Forms MCS-90 and MCS-82) and passengers (Forms MCS-90B and MCS-82B), motor carrier clerks employed by motor carriers (storing/maintaining insurance and/or surety bond documentation), and vehicle maintenance staff employed by Canadian and Mexican/non-North-American (NNA) domiciled motor carriers (placing copies of documentation in vehicles).

Estimated Number of Respondents: 202,458.

Estimated Time per Response: FMCSA estimates it takes 2 minutes to complete the Endorsement for Motor Carrier Policies of Insurances for Public Liability (Forms MCS-90 for property carriers and MCS-90B for passenger carriers) or the Motor Carrier Public Liability Surety Bond (Forms MCS-82 for property carriers and MCS-82B for passenger carriers); 1 minute to store/maintain documents at the motor carrier's place of business [49 CFR 387.7(d); 49 CFR 387.31(d)]; and 1 minute to place either document on board the vehicle, required for Canadian and Mexican/NNA carriers operating in the United States [49 CFR 387.7(f); 387.31(f)].

Expiration Date: January 31, 2020.

Frequency of Response: Upon creation, change, or replacement of an insurance policy or surety bond.

Estimated Total Annual Burden: 5,739 hours [4,931 annual burden hours for ICs 1-4 + 808 annual burden hours for IC-5 document placement in vehicles = 5,739].

Background: The Secretary of Transportation is responsible for implementing regulations which establish minimal levels of financial responsibility for: (1) For-hire motor carriers of property to cover public liability, property damage and environmental restoration, and (2) for-hire motor carriers of passengers to cover public liability and property damage. The Endorsement for Motor Carrier Policies of Insurance for Public Liability (Forms MCS-90/90B) and the Motor Carrier Public Liability Surety Bond (Forms MCS-82/82B) contain the minimum amount of information necessary to document that a motor carrier of property or passengers has obtained, and has in effect, the minimum levels of financial responsibility as set forth in applicable regulations (motor carriers of property—49 CFR 387.9; and motor carriers of passengers—49 CFR 387.33). FMCSA and the public can verify that a motor carrier of property or passengers has obtained, and has in effect, the required minimum levels of financial responsibility, by use of the information enclosed within these documents.

The 60-day Federal Register notice (84 FR 52164) published on October 1, 2019, announced FMCSA's intent to submit the Financial Responsibility of Motor Carriers of Passengers and Motor Carriers of Property clearance process to OMB for approval and requested comments from the public for 60 days. The FMCSA received two comments in response to the 60-day Federal Register notice. One was from an anonymous commenter which was not relevant to the information collection. The National School Transportation Association submitted a letter supporting the Agency's proposal to renew the information collection.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on December 19, 2019.
Kelly Regal,
Associate Administrator for Office of Research and Information Technology.

[FR Doc. 2019-27900 Filed 12-26-19; 8:45 am]

BILLING CODE 4910-EX-P